ENVIRONMENTAL PROTECTION AGENCY

40 CFR Part 52

[EPA-R04-OAR-2007-1186-200821(b); FRL-8781-4]

Approval and Promulgation of Air Quality Implementation Plans: Kentucky; Approval of Section 110(a)(1) Maintenance Plans for the 1997 8-Hour Ozone Standard for the Huntington—Ashland Area, Lexington Area and Edmonson County

AGENCY: Environmental Protection Agency (EPA).

ACTION: Proposed rule.

SUMMARY: EPA is proposing to approve revisions to the Kentucky State Implementation Plan (SIP) concerning the 8-hour ozone maintenance plans addressing the 1997 8-hour ozone standard for the following areas: the Kentucky portion of the Huntington-Ashland Area (a portion of Greenup County); Lexington Area (Fayette and Scott Counties); and Edmonson County. These maintenance plans were submitted for EPA action on May 27, 2008, by the Commonwealth of Kentucky and ensure the continued attainment of the 1997 8-hour ozone National Ambient Air Quality Standard (NAAQS) through the year 2020. These plans meet the statutory and regulatory requirements, and are consistent with EPA's guidance. EPA is proposing to approve the revisions pursuant to section 110 of the Clean Air Act. On March 12, 2008, EPA issued a revised ozone standard. This action, however, is being taken to address requirements under the 1997 ozone standard. Requirements for the Huntington-Ashland, Lexington, and Edmonson County Areas under the 2008 standard will be addressed in the future.

In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before April 24, 2009.

ADDRESSES: Submit your comments, identified by Docket ID No. EPA-R04-OAR-2007-1186 by one of the following methods:

1. Federal eRulemaking Portal: www.regulations.gov: Follow the on-line instructions for submitting comments.

2. E-mail: Jane Spann at Spann.Jane@epa.gov.

3. Fax: (404) 562-9019.

4. Mail: “EPA-R04-OAR-2007-1186” Regulatory Development Section, Air Planning Branch, Air, Pesticides and Toxics Management Division, U.S. Environmental Protection Agency, Region 4, 61 Forsyth Street, SW., Atlanta, Georgia 30303-8960.

5. Hand Delivery or Courier: Jane Spann, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Jane Spann or Zuri Farngalo, Regulatory Development Section, Air Planning Branch, Air, Pesticides and Toxics Management Division, U.S. Environmental Protection Agency, Region 4, 61 Forsyth Street, SW., Atlanta, Georgia 30303-8960. Jane Spann may be reached by phone at (404) 562-9029 or by electronic mail address Spann.Jane@epa.gov. Zuri Farngalo may be reached at (404) 562-9152 and the electronic mail address is Farngalo.Zuri@epa.gov.

SUPPLEMENTARY INFORMATION: For additional information see the direct final rule which is published in the Rules Section of this Federal Register.

Dated: February 25, 2009.
Beverly H. Banister,
Acting Regional Administrator, Region 4.

[FR Doc. E9-6590 Filed 3-24-09; 8:45 am]

BILLING CODE 6560-50-P